FEDERAL COMMUNICATIONS COMMISSION

47 CFR Part 73

[DA 00-1165; MM Docket No. 99-357; RM-9780]

Radio Broadcasting Services; Eldorado, Beeville, Colorado City, Cotulla, Cuero, Kerrville, Mason, McQueeney, and San Angelo, TX

AGENCY: Federal Communications Commission

ACTION: Final rule.

SUMMARY: At the request of Schleicer County Radio, this document allots Channel 285A to Eldorado, Texas, as a first local service. At the request of Rawhide Radio, L.L.C., this document substitutes Channel 249C1 for Channel 249C3 at Cuero, Texas, reallots Channel 249C1 from Cuero to McQueeney, Texas, and modifies the license of Station KVCQ to specify operation on Channel 249C1 at McQueeney. See 64 FR 73462, published December 13, 1999. This document also substitutes Channel 296A for Channel 250C2 at Beeville, Texas, and modifies the license of Station KYTX to specify operation on Channel 296A. This document substitutes Channel 291C2 for Channel 289C3 at San Angelo, Texas, and modifies the license of Station KMDX to specify operation on Channel 291C2. This document substitutes Channel 296A for Channel 291A at Colorado City, Texas, and modifies the license of Station KAUM to specify operation on Channel 296A. In addition, this document substitutes Channel 281C2 for vacant Channel 249C2 at Mason, Texas, and substitutes Channel 242A for vacant Channel 249A at Cotulla, Texas. Finally, this document changes the reference coordinates for the Channel 291A allotment at Kerrville, Texas. The reference coordinates for the Channel 285A allotment at Eldorado, Texas, are 30-51-36 and 100-36-00. The reference coordinates for the Channel 249C1 allotment at McQueeney, Texas, are 29-21-24 and 97-39-48. The reference coordinates for the Channel 296A allotment at Beeville, Texas, are 28-27-03 and 97-50-15. The reference coordinates for the Channel 291C2 allotment at San Angelo, Texas, are 31-18-09 and 100-35-45. The reference coordinates for the Channel 296A allotment at Colorado City, Texas, are 32-23-15 and 100-53-33. The reference coordinates for the Channel 281C2 allotment at Mason, Texas, are 30-44-55 and 99-13-49. The reference coordinates for the Channel 242A allotment at Cotulla, Texas, are 28-30-22 and 99-12-46. The reference coordinates for the Channel 291A allotment at Kerrville, Texas, are 30-01-54 and 99-09-01. With this action, the proceeding is terminated.

DATES: Effective July 12, 2000.

FOR FURTHER INFORMATION CONTACT: Robert Hayne, Mass Media Bureau, (202) 418-2177.

SUPPLEMENTARY INFORMATION: This is a synopsis of the Commission's Report and Order in MM Docket No. 99-357, adopted May 24, 2000, and released May 26, 2000. The full text of this decision is available for inspection and copying during normal business hours in the FCC's Reference Information Center at Portals II, CY-A257, 445 12th Street, SW, Washington, DC. The complete text of this decision may also be purchased from the Commission's copy contractor, International Transcription Service, Inc., (202) 857-3800, 1231 20th Street, NW, Washington, DC 20036.

List of Subjects in 47 CFR Part 73

Radio broadcasting.

Part 73 of title 47 of the Code of Federal Regulations is amended as follows:

PART 73—[AMENDED]

1. The authority citation for part 73 continues to read as follows:

Authority: 47 U.S.C. 154, 303, 334, 336.

§ 73.202 [Amended]

2. Section 73.202(b), the Table of FM Allotments under Texas, is amended by removing Channel 250C2 and adding Channel 296A at Beeville.

3. Section 73.202(b), the Table of FM Allotments under Texas, is amended by removing Channel 291A and adding Channel 296A at Colorado City.

4. Section 73.202(b), the Table of FM Allotments under Texas, is amended by removing Channel 249A and adding Channel 242A at Cotulla.

5. Section 73.202(b), the Table of FM Allotments under Texas, is amended by removing Cuero, Channel 249C3, and adding McQueeney, Channel 249C1.

6. Section 73.202(b), the Table of FM Allotments under Texas, is amended by removing Channel 249C2 and adding Channel 281C2 at Mason.

7. Section 73.202(b), the Table of FM Allotments under Texas, is amended by removing Channel 289C3 and adding Channel 291C2 at San Angelo.

8. Section 73.202(b), the Table of FM Allotments under Texas, is amended by adding Eldorado, Channel 285A.

Federal Communications Commission.
John A. Karousos,
Chief, Allocations Branch, Policy and Rules Division, Mass Media Bureau.

[FR Doc. 00-14542 Filed 6-8-00; 8:45 am]

BILLING CODE 6712-01-U